DEPARTMENT OF HEALTH AND HUMAN SERVICES

National Institutes of Health

Submission for OMB Review; 30-Day Comment Request Evaluation of the Enhancing Diversity of the NIH-Funded Workforce Program (National Institute of General Medical Sciences)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: To obtain a copy of the data collection plans and instruments or request more information on the proposed project contact: Dr. Alison Gammie, Director, Division of Training, Workforce Development, and Diversity, NIGMS, 45 Center Drive, Room 2AS43J, Bethesda, MD 20892, or call non-toll-free number (301) 594-2662, or Email your request, including your address to: alison.gammie@nigms.nih.gov. Formal requests for additional plans and instruments must be requested in writing.

SUPPLEMENTARY INFORMATION: This proposed information collection was previously published in the Federal Register on December 3, 2019, pages 66207-66209 (84 FR 66207-66209) and allowed 60 days for public comment. One public comment was received. The purpose of this notice is to allow an additional 30 days for public comment. The National Institute of General Medical Sciences (NIGMS), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Evaluation of the Enhancing the Diversity of the NIH-funded Workforce Program Consortium (DPC), 0925-0747-Reinstatement with Change, exp., date 11/30/2019, National Institute of General Medical Sciences (NIGMS), National Institutes of Health (NIH).

Need and Use of Information Collection: The goal of the DPC is to address a unique and compelling need identified by NIH, namely to enhance the diversity of well-trained biomedical research scientists who can successfully compete for NIH research funding and/or otherwise contribute to the NIH-funded scientific workforce. The DPC is a national collaborative through which awardee institutions, in partnership with NIH, aim to enhance diversity in the biomedical research workforce through the development, implementation, assessment and dissemination of innovative and effective approaches to: (a) Student outreach, engagement, training, and mentoring, (b) faculty development, and (c) institutional research training infrastructure. The Coordination and Evaluation Center (CEC) will evaluate the efficacy of the training and mentoring approaches implemented across a variety of contexts and populations and will disseminate information to the broader research community. The planned consortium-wide data collection and evaluation will provide comprehensive information about the multi-dimensional factors (individual, institutional, and faculty/mentor) that influence student and faculty success, professional development, and persistence within biomedical research career paths across a variety of contexts. The planned data collection, and the resulting findings, is projected to have a sustained, transformative effect on biomedical research training and mentoring nationwide.

OMB approval is requested for 3 years. There are no costs to respondents other than their time. The total estimated annualized burden hours are 55,132.

Estimated Annualized Burden Hours
Form name | Type of respondents | Number of respondents | Number of responses per respondent | Average time per response (in hours) | Total annual burden hours
2019 CIRP Freshman Survey (Attachment 12) | BUILD and Non-BUILD Student | 15,000 | 1 | 45/60 | 11,250
Student Annual Follow-up survey (Attachment 13) | BUILD and Non-BUILD Student | 15,000 | 1 | 45/60 | 11,250
2019 College Senior Survey (Attachment 14) | BUILD and Non-BUILD Student | 15,000 | 1 | 45/60 | 11,250
Student Annual Follow-up Survey (Attachment 13) | 2020 Student Cohort | 5,000 | 3 | 25/60 | 6,250
Student Annual Follow-up Survey (Attachment 13) | 2021 Student Cohort | 5,000 | 2 | 25/60 | 4,167
Student Annual Follow-up Survey (Attachment 13) | 2022 Student Cohort | 5,000 | 1 | 25/60 | 2,083
2019-20 HERI Faculty Survey Core National Instrument (Attachment 15) | BUILD and Non-BUILD Faculty Survey | 500 | 1 | 25/60 | 208
Faculty Annual Follow-up survey (Attachment 16) | BUILD Faculty Annual Follow-up survey | 500 | 2 | 25/60 | 417
BUILD Institutional Research & Program Data Requests (Attachment 19) | Personnel and Administrators at BUILD Institutions | 10 | 3 | 16 | 480
BUILD Site Visits (Attachment 18) | BUILD Students, Faculty, and Institution | 120 | 1 | 24 | 2,880
BUILD Case Studies Preparation (Attachment 18) | BUILD Students, Faculty, and Institutions | 24 | 1 | 40 | 960
BUILD Case Study Interviews (Attachment 18) | Undergraduate BUILD Students | 170 | 1 | 90/60 | 255
BUILD Case Study Interviews (Attachment 18) | Graduate/post-doctoral BUILD students | 70 | 1 | 90/60 | 105
BUILD Case Study Interviews (Attachment 18) | BUILD PI's, Program Managers/Directors, & Faculty | 162 | 1 | 90/60 | 243
NRMN Annual Follow-up Surveys (Attachment 17) | NRMN 2020 mentee cohort | 500 | 3 | 25/60 | 625
NRMN Annual Follow-up Surveys (Attachment 17) | NRMN 2021 mentee cohort | 500 | 3 | 25/60 | 625
NRMN Annual Follow-up Surveys (Attachment 17) | NRMN 2022 mentee cohort | 500 | 2 | 25/60 | 417
NRMN Annual Follow-up Surveys (Attachment 17) | NRMN 2020 mentor cohort | 500 | 3 | 25/60 | 625
NRMN Annual Follow-up Surveys (Attachment 17) | NRMN 2021 mentor cohort | 500 | 3 | 25/60 | 625
NRMN Annual Follow-up Surveys (Attachment 17) | NRMN 2022 mentor cohort | 500 | 2 | 25/60 | 417
Total |  | 64,556 | 85,076 |  | 55,132

Dated: January 28, 2020.
Richard A. Aragon,
Project Clearance Liaison, National Institute of General Medical Sciences, National Institutes of Health.

[FR Doc. 2020-02457 Filed 2-6-20; 8:45 am]

BILLING CODE 4140-01-P